DEPARTMENT OF THE TREASURY

Internal Revenue Service

Open Meeting of the AD Hoc Committee of the Taxpayer Advocacy Panel

AGENCY: Internal Revenue Service (IRS), Treasury.

ACTION: Notice.

SUMMARY: An open meeting of the AD Hoc Committee of the Taxpayer Advocacy Panel will be conducted in Washington, DC. The Taxpayer Advocacy Panel is soliciting public comments, ideas and suggestions on improving customer service at the Internal Revenue Service.

DATES: The meeting will be held Wednesday, June 13, Thursday, June 14, and Friday, June 15, 2007.

FOR FURTHER INFORMATION CONTACT: Inez De Jesus at 1-888-912-1227 (toll-free), or 954-423-7977 (non toll-free).

SUPPLEMENTARY INFORMATION: Notice is hereby given pursuant to section 10(a)(2) of the Federal Advisory Committee Act, 5 U.S.C. App. (1988) that an open meeting of the Ad Hoc Committee of the Taxpayer Advocacy Panel will be held Wednesday, June 13, 2007 from 1 p.m. to 5 p.m.; Thursday, June 14, 2007 from 8 a.m. to 5 p.m.; and Friday, June 15, 2007 from 8 a.m. to 12 p.m. ET. Notification of intent to attend the meeting must be made with Inez De Jesus. Ms. De Jesus can be reached at 1-888-912-1227 or 954-423-7977, or write Inez De Jesus, TAP Office, 1000 South Pine Island Road, Suite 340, Plantation, FL 33324, or post comments to the Web site: http://www.improveirs.org.

The agenda will include: Various IRS issues.

Dated: May 6, 2007.
John Fay,
Acting Director, Taxpayer Advocacy Panel.

[FR Doc. E7-9159 Filed 5-11-07; 8:45 am]

BILLING CODE 4830-01-P